DEPARTMENT OF LABOR

Employment and Training Administration

[TA-W-39,660]

Rosti (Minden) Inc. Coushatta, LA; Notice of Termination of Investigation

Pursuant to section 221 of the Trade Act of 1974, an investigation was initiated on July 16, 2001 in response to a petition which was filed by the company on behalf of workers at Rosti (Minden) Inc., Coushatta Annex, Coushatta, Louisiana.

The company has requested that the petition be withdrawn. Consequently, further investigation in this case would serve no purpose, and the investigation has been terminated.

Signed in Washington, DC, this 29th day of August, 2001.
Linda G. Poole,
Certifying Officer, Division of Trade Adjustment Assistance.

[FR Doc. 01-22688 Filed 9-10-01; 8:45 am]

BILLING CODE 4510-30-M